DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of data collections using the ETA Form 9042a, Petition for Trade Adjustment Assistance (1205-0342, expires 3/31/2003) and its Spanish translation ETA 9042a-1 (1205-0342, expires 3/31/2003); ETA 9043a, Business Confidential Data Request (1205-0339, expires 3/31/2003); and ETA 8562a, Customer Survey (1205-0190 expires 3/31/2003) To meet the Terms of Clearance assigned by OMB on October 9, 2002, these collections of information will be consolidated into one reporting requirement and approved under OMB approval number 1205-0342. ETA will not be seeking approval of the original ETA 9043, 8562 and 9042 used for the Trade Act Program as in effect prior to November 4, 2002, only the new forms associated with the Trade Act of 2002 will be extended. The consolidation of these reporting requirements along with the elimination of the ETA 9043, 8562 and 9042 forms will result in a burden decrease of 11,451 hours.

A copy of the proposed information collection request (ICR) can be obtained by contacting the office listed below in the addressee section of this notice.

DATES: Written comments must be submitted to the office listed in the addressee section below on or before April 15, 2003.

ADDRESSES: Erin L. FitzGerald, Program Analyst, Division of Trade Adjustment Assistance, Room C-5311, 200 Constitution Ave., NW., Washington, DC 20210. Phone (202) 693-3506 (this is not a toll-free number), fax (202) 693-3584, e-mail efitzgerald@doleta.gov.

SUPPLEMENTARY INFORMATION:

I. Background

The Trade Act of 2002 (Pub. L. 107-210) amends the Trade Act of 1974 and consolidated two previously authorized worker adjustment assistance programs, Trade Adjustment Assistance (TAA) and North American Free Trade Agreement-Transitional Adjustment Assistance (NAFTA-TAA) into one TAA program effective November 4, 2002. Section 221 (a) of Title II, Chapter 2 of the Trade Act of 1974, as amended by the Trade Act of 2002, authorizes the Secretary of Labor and the Governor of each state to accept petitions for certification of eligibility to apply for adjustment assistance. The petitions may be filed by a group of workers, their certified or recognized union or duly authorized representative, employers of such workers, one-stop operators or one-stop partners. ETA Form 9042a, Petition for Trade Adjustment Assistance, and its Spanish translation, ETA Form 9042a-1, Solicitud De Asistencia Para Ajuste, establish a format that may be used for filing such petitions.

Sections 222, 223 and 249 of the Trade Act of 1974, as amended, require the Secretary of Labor to issue a determination for groups of workers as to their eligibility to apply for Trade Adjustment Assistance (TAA). After reviewing all of the information obtained for each petition for trade adjustment assistance filed with the Department, a determination is issued as to whether the statutory criteria for certification are met. The information collected in ETA Form 9043a, Business Confidential Data Request, and ETA Form 8562a, Customer Survey, will be used by the Secretary to specifically determine to what extent, if any, increased imports or shift in production have impacted the petitioning worker group.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a notice to revise and consolidate collections of information currently approved by OMB under control numbers 1205-0342, 1205-0339, and 1205-0190 all expiring 3/31/03. The extension of the ETA 9042a, ETA 9042a-1, ETA 9043a, and ETA 8562a provides a format for collecting information necessary for the Department to comply with the requirement that it accept petitions for Trade Adjustment Assistance and issue determinations of eligibility in response to those petitions.

Type of Review: Revision.

Agency: Employment and Training Administration.

Title: Investigative Data Collection Requirements for the Trade Act of 1974 as amended by the Trade Act of 2002.

OMB Number: 1205-0342.

Affected Public: Individuals or Households, Businesses.

Cite/reference | Total respondents/responses | Average time per response | Total reference burden
ETA 9042A & ETA 9042A-1 | 4,100 | ¹ 20 | 1,367
ETA 9043A | 4,100 | ² 3.5 | 14,350
ETA 8562A | 6,560 | ² 1.78 | 11,677
Totals |  |  | 27,394
¹ Minutes. ² Hours.

Total Burden Cost (capital/startup): $0.

Total Burden Cost (operating/maintaining): $0.

Comments submitted in response to this comment request will be summarized and/or included in the request for Office of Management and Budget approval of the information collection request; they will also become a matter of public record.

Dated: February 10, 2003.
Edward A. Tomchick,
Director, Division of Trade Adjustment Assistance.

[FR Doc. 03-3670 Filed 2-13-03; 8:45 am]

BILLING CODE 4510-30-P